ENVIRONMENTAL PROTECTION AGENCY

[EPA-HQ-OPPT-2020-0078; FRL-9169-01-OCSPP]

Agency Information Collection Activities; Proposed Revisions to an Existing Collection, Toxic Chemical Release Reporting; Comment Request

AGENCY: Environmental Protection Agency (EPA).

ACTION: Notice.

SUMMARY: In compliance with the Paperwork Reduction Act (PRA), this document announces that EPA is planning to submit the following Information Collection Request (ICR) to the Office of Management and Budget (OMB): “Toxic Chemical Release Reporting (Revision)” and identified by ICR No. 2613.04 and OMB Control No. 2070-0212. This ICR is a revision to an existing ICR that is scheduled to expire on March 31, 2024. The existing ICR is being revised ahead of schedule to include potential reporting requirements that may result from EPA's use of other authority under the Emergency Planning and Community Right-to-Know Act (EPCRA) that is not specifically covered by the existing ICR. Before submitting the ICR to OMB for review and approval under the PRA, EPA is soliciting comments on specific aspects of the proposed information collection that is summarized in this document. The ICR and accompanying material are available in the docket for public review and comment.

DATES: Comments must be received on or before January 14, 2022.

ADDRESSES: Submit your comments, identified by docket identification (ID) number EPA-HQ-OPPT-2020-0078, using the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) is by appointment only. For the latest status information on EPA/DC and docket access, visit https://www.epa.gov/dockets.

FOR FURTHER INFORMATION CONTACT: Stephanie Griffin (7410M), Office of Pollution Prevention and Toxics, Environmental Protection Agency, 1200 Pennsylvania Ave. NW, Washington, DC 20460-0001; telephone number: (202) 564-1463; email address: griffin.stephanie@epa.gov.

SUPPLEMENTARY INFORMATION:

I. What information is EPA particularly interested in?

Pursuant to PRA section 3506(c)(2)(A), 44 U.S.C. 3506(c)(2)(A), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Toxic Chemical Release Reporting (Revision).

ICR number: 2316.04.

OMB control number: 2070-0212.

ICR status: The existing ICR is currently scheduled to expire on March 31, 2024. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: Pursuant to section 313 of the Emergency Planning and Community Right-to-Know Act (EPCRA), 42 U.S.C. 11001 et seq., certain facilities that manufacture, process, or otherwise use specified toxic chemicals in amounts above reporting threshold levels as provided in 40 CFR 372.25 must submit annually to EPA reporting forms to the Toxics Release Inventory (TRI). The revisions to this ICR covers the information collection activities associated with the submission of information to TRI pursuant to EPCRA section 313(b)(2), 42 U.S.C. 11023. Under EPCRA section 313(b)(2), the EPA Administrator has the authority to extend TRI reporting requirements to specific facilities that manufacture, process, or otherwise use a TRI-listed toxic chemical, but who are not covered by TRI reporting requirements as described at 40 CFR 372. The Administrator may determine a specific facility warrants TRI reporting on the basis of a chemical's toxicity, the facility's proximity to other facilities that release the chemical or to population centers, the facility's history of releases of the chemical, or other factors that the Administrator deems appropriate. This ICR revision includes discussion of EPA's discretionary authority under EPCRA section 313(b)(2) and outreach to potential stakeholders.

Burden statement: The annual public reporting and recordkeeping burden for this collection of information is 3,615,128 hours. EPA estimates that it will take submitters 35.7 hours to submit a Form R for one chemical and 21.96 hours to submit a Form A for one chemical. Burden is defined in 5 CFR 1320.3(b).

The ICR, which is available in the docket along with other related materials, provides a detailed explanation of the collection activities and the burden estimate that is only briefly summarized here:

Respondents/Affected Entities: Regulations at 40 CFR part 372, subpart B, require facilities that meet all the following criteria to report: The facility has 10 or more full-time employee equivalents (i.e., a total of 20,000 hours worked per year or greater; see 40 CFR 372.3); the facility is included in a North American Industry Classification System (NAICS) Code listed at 40 CFR 372.23 or under Executive Order 13148, Federal facilities regardless of their industry classification; and the facility manufactures (defined to include importing), processes, or otherwise uses any EPCRA section 313 (TRI) chemical in quantities greater than the established thresholds for the specific chemical in the course of a calendar year. Additionally, EPA may exercise its discretionary authority under EPCRA section 313(b)(2) to extend TRI reporting obligations to a facility, even if the facility does not meet the criteria for full-time employees or NAICS codes.

Respondent's obligation to respond: Mandatory, 40 CFR 372.

Estimated total number of potential respondents: 76,534.

Frequency of response: Annual.

Estimated total annual burden hours: 3,615,128 hours (per year). Burden is defined at 5 CFR 1320.3(b).

Estimated total annual costs: $200,205,764 (per year), includes $0 annualized capital or operation & maintenance costs.

III. Are there changes in the estimates from the last approval?

This ICR revision reflects an increase of 3 burden hours per facility in non-reporting burden from the ICR currently approved by OMB and this ICR. This increase reflects the review of the notification and preparation of responses stakeholders may engage in upon receipt of the Agency's notification of its potential application of the discretionary authority under EPCRA section 313(b)(2) to specific facilities. This increase is categorized as a program change.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: October 27, 2021.
Michal Freedhoff,
Assistant Administrator, Office of Chemical Safety and Pollution Prevention.

[FR Doc. 2021-24788 Filed 11-12-21; 8:45 am]

BILLING CODE 6560-50-P